DEPARTMENT OF COMMERCE

National Oceanic and Atmospheric Administration

[Docket No 001102309-2028-02; I.D 010802D

Announcement of Funding Opportunity to Submit Proposals for the Coral Reef Ecosystem Studies (CRES-2002)

AGENCY: Center for Sponsored Coastal Ocean Research/Coastal Ocean Program (CSCOR/COP), National Ocean Service (NOS), National Oceanic and Atmospheric Administration (NOAA), Department of Commerce.

ACTION: Notice of Funding Availability for financial assistance for project grants and cooperative agreements.

SUMMARY: The purpose of this notice is to advise the public that CSCOR/COP is soliciting three to five year proposals to support coral reef ecosystem studies in regions under U.S. jurisdiction where coral reefs occur. Funding is contingent upon the availability of Federal appropriations. It is anticipated that projects funded under this announcement will have an August 1, 2002 start date.

DATES: The deadline for receipt of proposals at the CSCOR/COP office is 3 p.m., e.s.t. April 17, 2002. (Note that late-arriving applications provided to a delivery service on or before April 16, 2002 with delivery guaranteed before 3 p.m., e.s.t. on April 17,2002 will be accepted for review if the applicant can document that the application was provided to the delivery service with delivery to the address listed below guaranteed prior to the specified closing date and time, and, in any event, the proposals are received in the CSCOR/COP office by 3 p.m., e.s.t., no later than 2 business days following the closing date.)

ADDRESSES: Submit the original and 19 copies of your proposal to Center for Sponsored Coastal Ocean Research/Coastal Ocean Program (N/SCI2), SSMC#4, 8th Floor, Station 8243, 1305 East-West Highway, Silver Spring, MD 20910. NOAA and Standard Form Applications with instructions are accessible on the following CSCOR/COP Internet Site: http://www.cop.noaa.gov under the COP Grants Information section, Part D, Application Forms for Initial Proposal Submission. Forms may be viewed and, in most cases, filled in by computer. All forms must be printed, completed, and mailed to CSCOR/COP with original signatures. If you are unable to access this information, you may call CSCOR/COP at 301-713-3338 to leave a mailing request.

FOR FURTHER INFORMATION CONTACT: Technical Information.Dr. Ruth Kelty, CRES-2002 Program point of contact, CSCOR/COP, 301-713-3020/ext 133, Internet: Ruth.Kelty@noaa.gov.

Business Management Information.Leslie McDonald, CSCOR/COP Grants Administrator, 301-713-3338/ext 155, Internet: Leslie.McDonald@noaa.gov

SUPPLEMENTARY INFORMATION:

Electronic Access

Long-term coral reef ecosystem research addresses one of the priority research needs identified by the Ecosystem Science and Conservation Working Group and is outlined at the Internet site: http://coralreef.gov/wg-reports.html.

University-National Oceanographic Laboratory System (UNOLS) Ship Time Request Form is available in electronic format at: http://www.gso.uri.edu/unols/ship/shiptime.html. UNOLS' vessel requirements are identified later in this document under “Part I, Section (5) Budget.

Background

Program Description

For complete program description and other requirements criteria for the Center for Sponsored Coastal Ocean Research/Coastal Ocean Program, see the COP General Grant Administration Terms and Conditions annual notification in the Federal Register (66 FR 63019, December 4, 2001) and at the CSCOR/COP home page.

Coral reefs and associated seagrass and mangrove communities are among the most complex and diverse ecosystems on earth. They support important fishing and tourism industries, protect coasts from wave and storm damage, build tropical islands, contain an array of potential pharmaceuticals, and provide local communities with a source of food, materials and traditional activities. As shallow-water, near shore communities, coral reef ecosystems are ecologically closely linked to adjacent watersheds and are highly vulnerable to human activity. Anthropogenic stresses include poor water quality from runoff and inadequate sewage treatment, over-harvesting of reef resources, sedimentation, shoreline development, and damage from tourists and divers. Larger-scale changes in global climate also potentially affect coral reef ecosystems through changes in sea temperature, sea level, irradiance, wind and precipitation patterns, and frequency and severity of tropical storms. Natural and human-induced forces act separately and in combination, to degrade coral reef ecosystems. Symptoms of stress include mass bleaching (loss of symbiotic algae) of corals, regional reductions of certain reef framework corals, and disease outbreaks leading to mass mortalities of reef-building corals and associated organisms.

According to the 2000 report by the Global Coral Reef Monitoring Network, the world has lost an estimated 11 percent of coral reefs and a further 16 percent are not fully functional. Significant further reductions in coral reef health, accompanied by major losses in biological diversity, are expected to continue for the next few decades unless coordinated action to manage and conserve these ecosystems is undertaken soon.

The 1998 Executive Order on Coral Reef Protection (E.O. 13089) directs Federal agencies to map, research, monitor, manage, and restore coral reef ecosystems. In response to the Executive Order, a U.S. Coral Reef Task Force established interagency working groups to address six areas: (1) Coastal Uses, (2) Ecosystem Science and Conservation, (3) Mapping and Information Synthesis, (4) Water and Air Quality, (5) International Dimensions, and (6) Education and Outreach. One of the key components of the Task Force Action Plan is long-term regional ecosystem research, which this announcement addresses.

Coral Reef Ecosystem Studies Description

This notice solicits proposals that address causes of regional declines in coral abundance and degradation of coral ecosystems. CSCOR/COP's interest is to provide timely and high-quality scientific results that can be used to develop alternative management strategies to restore and protect coral reef ecosystems. To meet this goal, highest consideration will be given to multi-disciplinary team proposals incorporating hypothesis-driven research involving both the natural and social sciences, which includes participation by the territory, state, or Federal resource management community. Because of the complex relationships among land-based activities, watershed/reef interactions, and local economies and values, the overall research proposal should include a component study that addresses social and economic aspects of the study area, and integrate this

research into the study as a whole.

The development of predictive models is encouraged (e.g., bio-physical models to investigate larval transport of reef organisms and their recruitment to reef systems in the context of variable oceanographic conditions; water quality models to investigate the relationship between watershed-based pollutant inputs and effects on reef ecosystems; economic models to investigate the relationship between coral reef health and local economies). Results from such research must be applicable to ecosystem sustainability studies and assessments for alternative management strategies. Scientific information, syntheses, and models from this multi-disciplinary, long-term effort will enable resource managers to make more informed decisions on managing US coral reef ecosystems.

Research should focus on coral reef ecosystems in the Atlantic or Pacific subject to the jurisdiction or control of the United States. CSCOR/COP will select the strongest and most balanced proposal(s) that focuses on one of the following geographic areas of special interest beginning with the highest priority: The (1) Caribbean (includes U.S. Virgin Islands, Puerto Rico, and Navassa Island); (2) Western Pacific (includes Guam, the Commonwealth of Northern Marinas Islands, Marshall Islands, Federated States of Micronesia, and the Freely Associated States of the Republic of Palau); (3) American Samoa; (4) Hawaiian Islands; and (5) Florida. The specific area of study within these regions will be defined by the selected proposal.

Within a study region, more than one specific area may be included for comparative purposes. Where remote sites are included, ship requirements (ship type, time, and cost) should be identified.

Research Objectives

This solicitation seeks proposals to:

(1) Identify and evaluate factors critical to the decline of coral reefs in the study region and evaluate management approaches to reversing their loss;

(2) Develop tools, such as models and/or data syntheses, to assist resource managers (e.g., assessing impacts of climate change, coastal land-use impacts, recruitment/retention mechanisms).

(3) Understand the social, cultural, and economic context in developing tools and evaluating factors critical to the success of reef management strategies.

Focus of the Research Program

To accomplish the above three objectives, proposals must address the following four research focus areas:

(1) Relationship(s) between watershed-based activities and changes in coral reef ecosystems, for example: the mechanisms by which watershed-based pollutants are transported to and distributed within coral reef ecosystems.

(2) Primary causes of ecological stresses in reef ecosystems of the study region (such as, overfishing, reef destruction and pollution, climate change, disease, invasive species, sedimentation, etc.) and prioritization of these stresses.

(3) The effect of changes in faunal components on the integrity of the reef ecosystem (such as, oceanic and ecological processes that regulate species recruitment, species interactions, population dynamics, and identification of keystone species).

(4) Evaluation of Marine Protected Areas (MPAs) as management tools for improving coral reef structure and function, and identification of important linkages among coral reef ecosystems in the study region.

The duration of the study is anticipated to be three to five years. Typically CSCOR/COP programs of a size and design similar to CRES include five to eight lead researchers along with a management team, and with a management team chair that serves as a main point of contact with the CRES program manager. Management teams typically include three to four individuals from different institutions that, as a group, provide strong leadership and solid partnerships that enable the program to be effectively implemented and produce meaningful results. Management teams can include representatives from Federal laboratories, universities, local governments, and non-governmental organizations. Proposers are strongly encouraged to include MPAs, or potential MPAs in the study design if possible, especially where collaborative research within MPAs would enhance the understanding of regional coral reef ecosystems and human use of these ecosystems. Therefore, priority will be given to funding an omnibus proposal that includes a suite of projects and a collaborative team of multi-institutional, multi-disciplinary lead researchers. See Part II: Further Supplementary Information Section (11) Project Funding Priorities.

Continuation of out year funding will be contingent upon the determination by the awarding agency that the selected project(s) is/are on course to provide both interim and final products that will be useful to improve the condition of coral reefs in the study region.

Expected Products and Outcomes

Long-term multi-disciplinary research will provide a better understanding of the nature, extent, and consequences of anthropogenic and natural stress on coral reef ecosystems. Research results may be used to distinguish anthropogenic factors from natural variability in determining coral reef ecosystem health and potential impacts that may result from climate variability. Project proposals should clearly address a timetable and major program elements that will lead to specific interim and final management deliverables. In order for the study results to be useful to resource managers and decision makers, the study design and implementation should include a clear means to incorporate the information needs of the targeted region. Examples for accomplishing this type of input could include annual workshops and Management and Technical Advisory Committees that include a broad spectrum of regional interests. Proposers are strongly encouraged to develop an approach in the proposal to ensure regional stakeholder input and participation.

A final synthesis report will be required as part of the NOAA “Decision Analysis Series” that concisely summarizes the project results and their potential application to improving the condition of degraded reefs, protecting healthy reefs in the study region, and other critical information relevant to reef management. Guidelines for producing this report will be made available to the project management team early in the project cycle.

CRES Products Will Include:

(1) Research data, assessments, publications, synoptic accounts, and any other useful activity or product that will provide resource managers and the public with timely information that is readily understandable;

(2) Syntheses of the research, including specific recommendations for management action, that lead to improved coral reef ecosystem health through novel and/or traditional approaches, particularly with respect to integrated watershed management and MPAs, and;

(3) Predictive tools such as simulation models and data syntheses (including ecological forecasts) that will help managers make informed decisions, and assess alternative management strategies (e.g., watershed and coastal water quality models to assess changes in land inputs and impacts on reefs and related habitats; larval transport and recruitment of reef organisms in the context of variable oceanographic conditions, and information for optimizing site selection for MPAs).

Part I: Schedule and Proposal Submission

This document requests full proposals only. The provisions for proposal preparation provided here are mandatory. Proposals received after the published deadline or proposals that deviate from the prescribed format will be returned to the sender without further consideration. Information regarding this announcement, additional background information, and required Federal forms are available on the CSCOR/COP home page.

Full Proposals

Applications submitted in response to this announcement require an original proposal and 19 proposal copies at time of submission. This includes color or high-resolution graphics, unusually sized materials, or otherwise unusual materials submitted as part of the proposal. For color graphics, submit either color originals or color copies. The stated requirements for the number of proposal copies provide for a timely review process. Facsimile transmissions and electronic mail submission of full proposals will not be accepted.

Required Elements

All recipients must follow the instructions in the preparation of the CSCOR/COP application forms included in this document in Part II: Further Supplementary Information, (10) Application forms and kit. Each proposal must also include the following seven elements, or will be returned to sender without further consideration:

(1) Signed Summary title page. The title page should be signed by the Principal Investigator (PI). The Summary Title page identifies the project's title starting with the acronym: CRES 2002 (Coral Reef Ecosystem Studies), a short title (less than 50 characters); and the PI's name and affiliation, complete address, phone, FAX and E-mail information. The requested budget for each fiscal year should be included on the Summary title page. Multi-institution proposals must include signed Summary title pages from each institution.

(2) One-page abstract/project summary. The Project Summary (Abstract) Form, which is to be submitted at time of application, shall include an introduction of the problem, rationale, scientific objectives and/or hypotheses to be tested, and a brief summary of work to be completed. The prescribed CSCOR/COP format for the Project Summary Form can be found on the CSCOR/COP Internet site under the Grants Information section, Part D.

The summary should appear on a separate page, headed with the proposal title, institution(s), investigator(s), total proposed cost and budget period. It should be written in the third person. The summary is used to help compare proposals quickly and allows the respondents to summarize these key points in their own words.

(3) Statement of work/project description. The proposed project must be completely described, including identification of the problem, scientific objectives, proposed methodology, relevance to the CRES program goals and objectives. The project description section (including relevant results from prior support) should not exceed 15 pages. Page limits are inclusive of figures and other visual materials, but exclusive of references and milestone chart.

This section should clearly identify project management with a description of the functions of each PI within a team. It should provide a full scientific justification for the research, do not simply reiterate justifications presented in this document. It should also include:

(a) The objective for the period of proposed work and its expected significance;

(b) The relation to the present state of knowledge in the field and relation to previous work and work in progress by the proposing principal investigator(s);

(c) A discussion of how the proposed project lends value to the program goal;

(d) Potential coordination with other investigators; and

(e) References cited.

Reference information is required. Each reference must include the name(s) of all authors in the same sequence in which they appear in the publications, the article title, volume number, page numbers and year of publications. While there is no established page limitation, this section should include bibliographic citations only and should not be used to provide parenthetical information outside the 15-page project description.

(4) Milestone chart. Provide time lines of major tasks covering the duration of the proposed project.

(5) Budget and Application Forms. Both NOAA and CSCOR/COP-specific application forms may be obtained at the CSCOR/COP Grants website. Forms may be viewed and, in most cases, filled in by computer. All forms must be printed, completed, and mailed to CSCOR/COP; original signatures are required. If applicants are unable to access this information, they may contact the CSCOR/COP grants administrator previously listed in the section FOR FURTHER INFORMATION CONTACT.

At time of proposal submission, all applicants must submit the Standard Form, SF-424 (Rev 7-97) Application for Federal Assistance to indicate the total amount of funding proposed for the whole project period. Applicants must also submit a COP Summary Proposal Budget Form for each fiscal year increment. Multi-institution proposals must include a Summary Proposal Budget Form for each institution. Use of this budget form will provide for a detailed annual budget and for the level of detail required by the CSCOR/COP program staff to evaluate the effort to be invested by investigators and staff on a specific project. The COP budget form is compatible with forms in use by other agencies that participate in joint projects with CSCOR/COP and can be found on the CSCOR/COP home page under COP Grants Information, Part D. All applications must include a budget narrative and a justification to support all proposed budget categories. The SF-424A, Budget Information (Non-Construction) Form, will be requested only from those applicants subsequently recommended for award.

Requests for ship time should be identified in the proposal budget. The investigator is responsible for requesting ship time and for meeting all requirements to ensure the availability of requested ship time. Copies of relevant ship time request forms should be included with the proposal. For example, the UNOLS Ship Time Request Form is available in electronic format at the website referenced earlier in this document under the section “ELECTRONIC ACCESS.” Paper copies may also be requested from UNOLS, but the electronic version is strongly preferred for ease of information exchange and processing.

(6) Biographical sketch. With each proposal, the following must be included: Abbreviated curriculum vitae, two pages per investigator; a list of up to five publications most closely related to the proposed project and up to five other significant publications; and list of all persons (including their organizational affiliation), in alphabetical order, who have collaborated on a project, book, article, or paper within the last 48 months. If there are no collaborators, this should be so indicated. Students, post-doctoral associates, and graduate and postgraduate advisors of the PI should also be disclosed. This information is used to help identify potential conflicts of interest or bias in the selection of reviewers.

(7) Proposal format and assembly. The original proposal should be clamped in the upper left-hand corner, but left unbound. The 19 additional copies can be stapled in the upper left-hand corner or bound on the left edge. The page margin must be 1 inch (2.5 cm) margins at the top, bottom, left and right, and the typeface standard 12-point size must be clear and easily legible. Proposals should be single spaced.

Part II: FURTHER SUPPLEMENTARY INFORMATION

(1) Program authorities. For a list of all program authorities for the Center for Sponsored Coastal Ocean Research/Coastal Ocean Program, see the General Grant Administration Terms and Conditions of the Coastal Ocean Program published in the Federal Register (66 FR 63019, December 4, 2001) and at the CSCOR/COP home page. Specific Authority cited for this announcement is the 16 USC 6401 et seq.

(2) Catalog of Federal Domestic Assistance (CFDA) Number. The CFDA number for the Coastal Ocean Program is 11.478.

(3) Program description. For complete CSCOR/COP program descriptions, see the General Grant Administration Terms and Conditions of the Coastal Ocean Program published in the Federal Register (66 FR 63019, December 4, 2001).

(4) Funding availability. It is anticipated that one CRES regional project will be funded at approximately $1,500,000 per year for up to five years, beginning in fiscal year 2002. Actual funding levels will depend upon the final budget appropriations for each fiscal year. Each CSCOR/COP project typically consists of several coordinated investigations, as part of an overall omnibus proposal as described in more detail earlier in this announcement, with separate sub-awards. For this announcement, sub-awards within an omnibus proposal would be expected to range from approximately $50,000 to $500,000. Announcements for additional CRES regional projects in fiscal year 2003 and beyond will depend on availability of funds.

If an application is selected for funding, NOAA has no obligation to provide any additional prospective funding in connection with that award in subsequent years. Renewal of an award to increase funding or to extend the period of performance is based on satisfactory performance and is at the total discretion of the funding agency.

Publication of this notice does not obligate any agency to any specific award or to obligate any part of the entire amount of funds available. Recipients and subrecipients are subject to all Federal laws and agency policies, regulations and procedures applicable to Federal financial assistance awards.

(5) Matching requirements. None.

(6) Type of funding instrument. Project Grants for non-Federal applicants, interagency transfer agreements, or any other appropriate mechanisms other than project grants or cooperative agreements for Federal applicants.

(7) Eligibility criteria: For complete eligibility criteria for the CSCOR/COP, see the COP General Grant Administration Terms and Conditions annual document in the Federal Register (66 FR 63019, December 4, 2001) and the CSCOR/COP home page. Eligible applicants are institutions of higher education, not-for-profit institutions, state, local and Indian tribal governments and Federal agencies. CSCOR/COP will accept proposals that include foreign researchers as collaborators with a researcher who is affiliated with a U.S. academic institution, Federal agency, or any other non-profit organization.

Applications from non-Federal and Federal applicants will be competed against each other. Proposals selected for funding from non-Federal applicants will be funded through a project grant or cooperative agreement under the terms of this notice. Proposals selected for funding from NOAA employees shall be effected by an intra-agency fund transfer. Proposals selected for funding from a non-NOAA Federal agency will be funded through an inter-agency transfer.

Note: Before non-NOAA Federal applicants may be funded, they must demonstrate that they have legal authority to receive funds from another Federal agency in excess of their appropriation. Because this announcement is not proposing to procure goods or services from applicants, the Economy Act (31 U.S.C. 1535) is not an appropriate legal basis.

(8) Award period. Full Proposals can cover a project period from three to five years. Multi-year project period funding will be funded incrementally on an annual basis. Each annual award shall require an Implementation Plan and statement of work that can be easily divided into annual increments of meaningful work representing solid accomplishments (if prospective funding is not made available, or is discontinued).

(9) Indirect costs. If indirect costs are proposed, the total dollar amount of the indirect costs proposed in an application must not exceed the indirect cost rate negotiated and approved by a cognizant Federal agency prior to the proposed effective date of the award.

(10) Application forms and kit. For complete information on application forms for the CSCOR/COP, see the COP General Grant Administration Terms and Conditions annual Document in the Federal Register (66 FR 63019, December 4, 2001) at the CSCOR/COP home page; and the information given under Required Elements, paragraph (5) Budget.

(11) Project funding priorities. For description of project funding priorities, see the COP General Grant Administration Terms and Conditions annual notification in the Federal Register (66 FR 63019, December 4, 2001) and at the CSCOR/COP home page.

(l2) Evaluation criteria. For complete information on evaluation criteria, see the COP General Grant Administration Terms and Conditions annual Document in the Federal Register (66 FR 63019, December 4, 2001) and at the CSCOR/COP home page.

(13) Selection procedures. For complete information on selection procedures, see the COP General Grant Administration Terms and Conditions annual Document in the Federal Register (66 FR 63019, December 4, 2001) and at the CSCOR/COP home page. All proposals received under this specific Document will be evaluated and ranked individually in accordance with the assigned weights of the above evaluation criteria by independent peer mail review and/or panel review. No consensus advice will be given by the independent peer mail review or the review panel.

(14) Other requirements. (a) For a complete description of other requirements, see the COP General Grant Administration Terms and Conditions annual Document in the Federal Register (66 FR 63019, December 4, 2001) and at the CSCOR/COP home page. NOAA has specific requirements that environmental data be submitted to the National Oceanographic Data Center (see Section 16 below). (b) The Department of Commerce Pre-Award Notification Requirements for Grants and Cooperative Agreements contained in the Federal Register (66 FR 49917, October 1, 2001) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

(c) Please note that NOAA is developing a policy on internal overhead charges, NOAA scientists considering submission of proposals should contact the appropriate CSCOR/COP Program Manager for the latest information.

(15) Intergovernmental review. Applications under this program are not subject to Executive Order l2372, “Intergovernmental Review of Federal Programs.” It has been determined that this notice is not significant for purposes of Executive Order 12866. Because notice and comment are not required under 5 U.S.C. 553, or any other law, for this notice relating to public property, loans, grants benefits or contracts (5U.S.C. 553(a)), a Regulatory Flexibility Analysis is not required and has not been prepared for this notice, 5 U.S.C. 603(a). It has been determined that this notice does not contain policies with Federalism implications as that term is defined in Executive Order 13132.

(16) Data archiving. Any data collected in projects supported by CSCOR/COP must be delivered to a National Data Center (NDC), such as the National Oceanographic Data Center (NODC), in a format to be determined by the institution, the NODC, and Program Officer. It is the responsibility of the institution for the delivery of these data; the DOC will not provide additional support for delivery beyond the award. Additionally, all biological cultures established, molecular probes developed, genetic sequences identified, mathematical models constructed, or other resulting information products established through support provided by CSCOR/COP are encouraged to be made available to the general research community at no or a modest handling charge (to be determined by the institution, Program Officer, and DOC). For more details, refer to COP data policy posted at the CSCOR/COP home page.

(17) This notification involves collection-of-information requirements subject to the Paperwork Reduction Act. The use of Standard Forms 424, 424A, 424B, and SF-LLL has been approved by the Office of Management and Budget (OMB) under control numbers 0348-0043, 0348-0044, 0348-0040 and 0348-0046.

The following requirements have been approved by OMB under control number 0648-0384: a Summary Proposal Budget Form (30 minutes per response), a Project Summary Form (30 minutes per response), a standardized format for the Annual Performance Report (5 hours per response), a standardized format for the Final Report (10 hours per response) and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the CSCOR/COP home page under Grants Information sections, Parts D and F.

Notwithstanding any other provision of law, no person is required to respond to, nor shall any person be subject to a penalty for failure to comply with a collection of information subject to the requirements of the Paperwork Reduction Act, unless that collection displays a currently valid OMB control number.

Dated: February 20, 2002.
Jamison S. Hawkins,
Deputy Assistant Administrator for Ocean Services and Coastal Zone Management.

[FR Doc. 02-4834 Filed 2-27-02; 8:45 am]

BILLING CODE 3510-JS-S